DEPARTMENT OF AGRICULTURE

Forest Service

Revision of Land Management Plan for the Uwharrie National Forest

AGENCY: Forest Service, USDA.

ACTION: Notice of commencement of the 90-day comment period for the Uwharrie National Forest proposed Land Management Plan.

SUMMARY: The Forest Service is proposing a revision to the Land Management Plan (hereafter referred to as the Proposed Plan) for the Uwharrie National Forest (UNF). This notice provides:

1. Information on how to view and/or obtain copies of the Proposed Plan and the Comprehensive Evaluation Report.

2. Information on how the public can comment on the Proposed Plan, when those comments are due and, how comments can be submitted;

3. Who to contact for more information.

DATES: Commencement of the 90-day comment period on the Proposed Plan formally begins on February 15, 2007.

ADDRESSES: Submit written comments to: Uwharrie Plan Revision, National Forests in North Carolina, 160-A Zillicoa Street, Asheville, NC 28801. Electronic mail should include “Uwharrie Proposed Plan” in the subject line and be sent to: comments-southern-north-carolina@fs.fed.us. More information on the UNF and Proposed Plan revision process is available at: http://www.cs.unca.edu/nfsnc/uwharrie_plan/.

FOR FURTHER INFORMATION CONTACT: Ruth Berner, National Forests in North Carolina, Planning Team Leader, (828) 257-4862.

SUPPLEMENTARY INFORMATION: The Uwharrie National Forest is managed as part of the National Forests in North Carolina. The original Land Management Plan (LMP) for the UNF was completed in 1986. A Notice of Initiation to revise the UNF's LMP was published in the Federal Register on November 18, 2005. Numerous public meetings and collaborative efforts have occurred to develop a Proposed Plan for the UNF. The results of these efforts will now be available for a formal 90-day public comment period.

Documents Available for Review

The following documents are available for review. They are available either online at: “http://www.cs.unca.edu/nfsnc/uwharrie_ plan/,” or hardcopies are available by sending a request to “comments-southern-north-carolina@fs.fed.us” or by contacting the address shown above.

1. Uwharrie National Forest Proposed Land Management Plan.

2. Comprehensive Evaluation Report, which includes the following separate documents:

• Terrestrial Ecosystem Sustainability,

• Aquatic Ecosystem Sustainability,

• Social Economic Sustainability and Social/Economic Overview.

3. Timber Resource Analysis.

Comment Requested

The Forest Service is seeking comments from individuals, organizations, and Federal, State, and local governments and agencies on the Uwharrie National Forest Proposed Land Management Plan. Comments on the Proposed Plan should be submitted within 90-days beginning February 15, 2007.

Responsible Official

The Forest Supervisor, National Forests in North Carolina, is the Responsible Official (36 CFR 219.2(b)(1)).

(Authority: 36 CFR 219.9(b)(2)(i), 70 FR 1023, January 5, 2005)

Marisue Hillard,
Forest Supervisor, National Forests in North Carolina.

[FR Doc. 07-618 Filed 2-12-07; 8:45 am]

BILLING CODE 3410-ES-M